DEPARTMENT OF LABOR

Employment and Training Administration

[TA-W-50,251]

Voith Fabrics, Inc., Frankfort, Kentucky; Notice of Termination of Investigation

Pursuant to section 221 of the Trade Act of 1974, an investigation was initiated on December 4, 2002 in response to a worker petition which was filed by the company on behalf of workers at Voith Fabrics, Inc., Frankfort, Kentucky.

The petitioner requested that the petition be withdrawn. Consequently, further investigation in this case would serve no purpose, and the investigation has been terminated.

Signed in Washington, DC this 31st day of December, 2002.
Linda G. Poole,
Certifying Officer, Division of Trade Adjustment Assistance.

[FR Doc. 03-417 Filed 1-8-03; 8:45 am]

BILLING CODE 4510-30-P